NUCLEAR REGULATORY COMMISSION

[Docket Nos. 50-259, 50-260, & 50-296-LA; ASLBP No. 16-948-03-LA-BD01]

Establishment of Atomic Safety and Licensing Board; Tennessee Valley Authority

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding: Tennessee Valley Authority (Browns Ferry Nuclear Plant Units 1, 2, and 3).

This proceeding involves a challenge to an application by Tennessee Valley Authority for an amendment to the operating licenses for the Browns Ferry Nuclear Plant Units 1, 2, and 3, located in Athens, Alabama. In response to a Federal Register Notice, “Applications and Amendments to Facility Operating Licenses and Combined Licenses Involving Proposed No Significant Hazards Considerations and Containing Sensitive Unclassified Non-Safeguards Information and Order Imposing Procedures for Access to Sensitive Unclassified Non-Safeguards Information,” published on July 5, 2016, see 81 FR 43661-43669, the Bellefonte Efficiency & Sustainability Team/Mothers Against Tennessee River Radiation (BEST/MATRR) filed a Petition to Intervene and Request for Hearing on September 9, 2016.

The Board is comprised of the following Administrative Judges:

Paul S. Ryerson, Chairman, Atomic Safety and Licensing Board Panel, U.S. Nuclear Regulatory Commission, Washington, DC 20555-0001

Dr. Gary S. Arnold, Atomic Safety and Licensing Board Panel, U.S. Nuclear Regulatory Commission, Washington, DC 20555-0001

Nicholas G. Trikouros, Atomic Safety and Licensing Board Panel, U.S. Nuclear Regulatory Commission, Washington, DC 20555-0001

All correspondence, documents, and other materials shall be filed in accordance with the NRC E-Filing rule. See 10 CFR 2.302.

Rockville, Maryland, September 20, 2016.
E. Roy Hawkens,
Chief Administrative Judge, Atomic Safety and Licensing Board Panel.

[FR Doc. 2016-23104 Filed 9-26-16; 8:45 am]

BILLING CODE 7590-01-P